GENERAL SERVICES ADMINISTRATION

48 CFR Part 522

[GSAR Amendment 2008-01; GSAR Case 2006-G505; (Change 22); Correction; Docket FAR-2008—0007; Sequence 1]

General Services Administration Acquisition Regulation; Correction

AGENCIES: General Services Administration (GSA), Office of the Chief Acquisition Officer.

ACTION: Correction.

SUMMARY: The General Services Administration (GSA) is issuing a correction to GSAR Amendment 2008-01; GSAR Case 2006-G505; (Change 22), which was published in the Federal Register at 73 FR 46202, August 8, 2008.

DATES: Effective Date: August 22, 2008.

FOR FURTHER INFORMATION CONTACT: The Regulatory Secretariat (VPR), Room 4041, GS Building, Washington, DC, 20405, (202) 501-4755, for information pertaining to status or publication schedules. For clarification of content, contact Mr. Ernest Woodson, Procurement Analyst, at (202) 501-3775. Please cite GSAR Amendment 2008-01; GSAR Case 2006-G505; (Change 22); Correction.

Correction

In the final rule document appearing in the issue of August 8, 2008:

1. On page 46202, second column, last paragraph under “Background,” remove “deleted in its entirety because of its potential for conflict” and add “revised to ensure consistency” in its place.

Dated: August 18, 2008.
Laurieann Duarte,
Acting Director, Regulatory Secretariat.

[FR Doc. E8-19501 Filed 8-21-08; 8:45 am]

BILLING CODE 6820-61-S